DEPARTMENT OF DEFENSE

Office of the Secretary

Establishment of the Panel to Review the V-22 Program

ACTION: Notice of establishment.

SUMMARY: The Panel to Review the V-22 Program is being established in consonance with the public interest and in accordance with the provisions of Pub. L. 92-463, the “Federal Advisory Committee Act,” Title 5 U.S.C., Appendix 2. Due to the urgent business tasked to this Panel by the Secretary of Defense, this notice is being published less than 15 days before the Panel's establishment.

This Panel will conduct an independent, high-level review of the V-22 program to include safety of the aircraft and recommend any proposed changes or corrective actions, and report the results to the Secretary of Defense.

The Panel will consist of four members with expertise, knowledge, and experience necessary in matters related to the V-22 review.

FOR FURTHER INFORMATION CONTACT: Gary Grey, OUSD (Acquisition, Technology, and Logistics), 703-697-0638.

Dated: January 4, 2001.
L.M. Bynum,
Alternate OSD Federal Register, Liaison Officer, Department of Defense.

[FR Doc. 01-997 Filed 1-11-01; 8:45 am]

BILLING CODE 5000-10-M